DEPARTMENT OF ENERGY

Federal Energy Regulatory Commission

[Project No. 11480-001 Alaska]

Haida Corporation Project; Notice of Availability Of Final Environmental Assessment

October 24, 2000.

In accordance with the National Environmental Policy Act of 1969 and the Federal Energy Regulatory Commission's (Commission) regulations, 18 CFR Part 380 (Order No. 486, 52 FR 47897), the Office of Energy Projects has reviewed the application for an original license for Haida Corporation's proposed Reynolds Creek Hydroelectric Project, and has prepared a Final Environmental Assessment (FEA). The project would be located about 10 miles east of Hydaburg, Alaska on Prince of Wales Island.

On September 9, 1999, the Commission staff issued a draft environmental assessment (DEA) for the project and requested that comments be filed with the Commission within 45 days. Comments on the DEA were filed by the Alaska Power & Telephone Company, National Marine Fisheries Service, Alaska Department of Fish and Game, Alaska Division of Governmental Coordination, Haida Corporation, and Natural Heritage Institute and are addressed in the FEA.

The FEA contains the staff's analysis of the potential environmental impacts of the project and concludes that licensing the project, with appropriate environmental protective measures, would not constitute a major federal action that would significantly affect the quality of the human environment.

Copies of the FEA are available for review in the Commission's Public Reference Room, Room 2A, at 888 First Street, N.E., Washington, D.C. 20426, and on the web at http://www.ferc.fed.us/online/rims.htm [please call (202 208-222 for assistance].

David P. Boergers
Secretary.

[FR Doc. 00-27769 Filed 10-27-00; 8:45 am]

BILLING CODE 6717-01-M